DEPARTMENT OF COMMERCE

National Oceanic and Atmospheric Administration

[RTID 0648-XA473]

North Pacific Fishery Management Council; Public Meeting

AGENCY: National Marine Fisheries Service (NMFS), National Oceanic and Atmospheric Administration (NOAA), Commerce.

ACTION: Notice of a public meeting.

SUMMARY: The North Pacific Fishery Management Council's (Council) Scientific and Statistical Committee (SSC) will meet via webconference.

DATES: The Council's SSC will begin at 8 a.m. on Monday, September 28, 2020 and continue through Friday, October 2, 2020, Alaska Time.

ADDRESSES: The meeting will be a webconference. Join online through the link at https://meetings.npfmc.org/Meeting/Details/1566.

Council address: North Pacific Fishery Management Council, 1007 W 3rd Ave., Anchorage, AK 99501-2252; telephone: (907) 271-2809. Instructions for attending the meeting via webconference are given under Connection Information, below.

FOR FURTHER INFORMATION CONTACT: Diana Evans, Council staff; email: diana.evans@noaa.gov; telephone: (907) 271-2809. For technical support please contact our administrative staff, email: npfmc.admin@noaa.gov.

SUPPLEMENTARY INFORMATION:

Agenda

Monday, September 28, 2020 Through Friday, October 2, 2020

The SSC agenda will include the following issues:

(1) BSAI Crab 4 stocks—Final Specifications, Crab Plan Team Report

(2) BSAI and GOA Groundfish Harvest—Proposed Specifications, PT Reports

(3) Cook Inlet Salmon FMP—Intial Review

(4) BSAI Halibut ABM—Initial Review

(5) Survey Planning—AFSC Report

In addition to providing ongoing scientific advice for fishery management decisions, the SSC functions as the Council's primary peer review panel for scientific information, as described by the Magnuson-Stevens Act section 302(g)(1)(e), and the National Standard 2 guidelines (78 FR 43066). The peer review process is also deemed to satisfy the requirements of the Information Quality Act, including the OMB Peer

Connection Information

You can attend the meeting online using a computer, tablet, or smart phone; or by phone only. Connection information will be posted online at: https://meetings.npfmc.org/Meeting/Details/1566. For technical support please contact our administrative staff, email: npfmc.admin@noaa.gov.

Public Comment

Public comment letters will be accepted and should be submitted electronically to: https://meetings.npfmc.org/Meeting/Details/1566. The Council strongly encourages written public comment for this meeting, to avoid any potential for technical difficulties to compromise oral testimony. The deadline for written comments is September 25, 2020, at 5 p.m. Alaska Time.

Authority: 16 U.S.C. 1801 et seq.

Dated: September 9, 2020.
Tracey L. Thompson,
Acting Deputy Director, Office of Sustainable Fisheries, National Marine Fisheries Service.

[FR Doc. 2020-20205 Filed 9-11-20; 8:45 am]

BILLING CODE 3510-22-P